FEDERAL COMMUNICATIONS COMMISSION

47 CFR Part 73

[DA 12-1976]

Radio Broadcasting Services; Westley, CA

AGENCY: Federal Communications Commission.

ACTION: Final rule, petition for reconsideration.

SUMMARY: This document grants the Petitions for Reconsideration filed separately by Modesto Peace/Life Center (“MPLC”) and Calvary Chapel of Turlock, Inc. (“CCT”), reinstates the applications, File Nos. BNPED-20100224ABX and BNPED-20100226AGO, respectively, nunc pro tunc, and re-reserves Channel 238A at Westley, California for noncommercial educational use.

DATES: Effective January 21, 2013.

ADDRESSES: Federal Communications Commission, 445 12th Street SW., Washington, DC 20554.

FOR FURTHER INFORMATION CONTACT: Kelly Donohue, Media Bureau, (202) 418-8192.

SUPPLEMENTARY INFORMATION: This is a summary of the Commission's Letter, DA 12-1976, released December 7, 2012. Both MPLC and CCT filed separately timely Petitions for Reconsideration, and amendments to their applications, File Nos. BNPED-20100224ABX and BNPED-20100226AGO, respectively, in response to the staff's July 27, 2012 decision. See 77 FR 50053, published August 20, 2012. The full text of this Commission decision is available for inspection and copying during normal business hours in the Commission's Reference Center 445 Twelfth Street, SW., Washington, DC 20554. The complete text of this decision may also be purchased from the Commission's duplicating contractor, Best Copy and Printing, Inc., 445 12th Street SW., Room CY-B402, Washington, DC 20054, telephone 1-800-378-3160 or www.BCPIWEB.com. The Commission will send a copy of the Letter in a report to be sent to Congress and the General Accounting Office pursuant to the Congressional Review Act, see 5 U.S.C. 801(a)(1)(A).

Although the Bureau now finds that the MPLC and CCT Applications both satisfy the reservation standard, MPLC and CCT remain tied with five points each. Thus, the Bureau refers the MPLC and CCT Applications to the Commission to administer the tie-breaker mechanisms and to determine the tentative selectee(s) for NCE Reserved Allotment Group No. 8.

List of Subjects in 47 CFR Part 73

Radio, Radio broadcasting.

Federal Communications Commission.
Peter H. Doyle,
Chief, Audio Division, Media Bureau.

For the reasons discussed in the preamble, the Federal Communications Commission amends 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under California, is amended by removing Channel 238A and by adding Channel *238A at Westley.

[FR Doc. 2012-31493 Filed 12-31-12; 8:45 am]

BILLING CODE 6712-01-P